DEPARTMENT OF DEFENSE

Department of the Army

Notice of Intent To Prepare Legislative Environmental Impact Statement Regarding Proposed Public Land Withdrawal in Vicinity of Arizona State Route 95, Yuma Proving Ground, Arizona

AGENCY: Department of the Army, DoD.

ACTION: Notice of intent.

SUMMARY: The Department of the Army (Army) intends to prepare a legislative environmental impact statement (LEIS) regarding the withdrawal and reservation for military purposes of approximately 22,000 acres of public land now managed by the Bureau of Land Management (BLM). This withdrawal and reservation would add to the existing withdrawal and reservation for the Army's Yuma Proving Ground (YPG), Arizona. It would improve public safety and meet testing and training requirements for advances in Global Positioning System (GPS)-guided parachute technologies. The additional land would allow for higher-altitude parachute releases and would provide an additional buffer in case of release-point errors and system failures. The proposed withdrawal area, which would extend to Arizona State Route (SR) 95, would establish SR 95 as a distinct physical landmark for the YPG boundary. This notice announces the beginning of the public comment process, including public scoping meetings. When the Army submits its land withdrawal application, BLM will file a separate Notice of Application for Withdrawal in the Federal Register. The LEIS will analyze potential impacts of the Army's use of the land. The LEIS will be transmitted to Congress to support legislative decision-making regarding the Army's request.

DATES: To be considered during the LEIS process, comments must be received by December 8, 2022.

ADDRESSES: Please mail written comments to: Mr. Daniel Steward, Environmental Sciences Division, U.S. Army Garrison—Yuma Proving Ground, 301 C St., Bldg. 307, Yuma, AZ 85365. Please email written comments to: usarmy.ypg.imcom.mbx.nepa@army.mil.

FOR FURTHER INFORMATION, CONTACT: Mr. Daniel Steward, YPG Environmental Sciences Division, by telephone at (928) 328-2125 or by email at daniel.m.steward.civ@army.mil.

SUPPLEMENTARY INFORMATION: The Army intends to prepare an LEIS to analyze potential impacts from a possible legislative withdrawal for military purposes of approximately 22,000 acres of public land managed by BLM. The proposed action involves a withdrawal and reservation of 21,200 acres of public land from all forms of appropriation (such as mining claims) and 800 acres of federal surface estate (meaning the subsurface is not included). The land is needed to improve public safety and meet testing and training requirements for advances in parachute technologies. If enacted into law, the withdrawal would add to—and be adjacent to—the 829,565 acres withdrawn on July 1, 1952, under Public Land Order 848, as amended, for use by the Army in connection with Yuma Test Station (currently known as YPG). The land withdrawal the Army is currently seeking would be for an indefinite period—i.e., until there is no longer a military need for the land.

YPG is located in the southwestern corner of Arizona, near the California-Arizona border. It is bounded by the Colorado River to the west and the Gila River to the south. The installation lies approximately 23 miles northeast of the city of Yuma, Arizona. A portion is situated in La Paz County and a portion is situated in Yuma County. Both counties are in Arizona. The proposed withdrawal involves land in each county. YPG occupies about 1,300 square miles and extends approximately 60 miles north to south and 50 miles east to west. YPG's mission is to plan, conduct, assess, analyze, report, and support developmental, production, and operational tests on: medium- and long-range artillery; aircraft target acquisition equipment and armament; armored tracked and wheeled vehicles; a variety of munitions; and parachute systems for personnel and supplies. YPG also provides training support to the Army, DoD, other federal agencies, and international and commercial customers.

The purpose of the proposed land withdrawal is to provide approximately 22,000 acres of additional area for testing and training at YPG. The Army requires the additional land as a safety buffer for testing advanced air delivery technologies and aviation systems. The additional land will also allow the Army to execute more complex air delivery and tactical scenarios. Higher altitudes and greater offset distances are required to test parachute systems' full capabilities. Parachute systems need larger buffer areas (i.e., surface safety zones) than are currently available. The surface safety zone is an area in space and on the ground that provides an additional buffer in case of error or failure. Surface safety zones protect people from being injured by material dropping from the sky during air delivery testing and training.

Currently, because of land and airspace limitations, systems are not tested to their full capability for altitude and precision. Higher-elevation and GPS-guided air delivery methods are being developed to provide better support to soldiers and other personnel in the field. GPS-guided delivery is designed to ensure payloads arrive at the intended location while keeping aircrews and other personnel out of harm's way. A payload is a palletized package of various weights and items, such as a vehicle, equipment, and/or supplies. Guided delivery systems undergoing development require safety buffers to contain potential testing errors and failures. The requested withdrawal area would provide an additional safety buffer to protect the public. Without the proposed withdrawal, drops could land outside the current YPG boundary. This could result in injury or death to members of the public. The land withdrawal would restrict the public from accessing hazardous areas, thus reducing the potential for injuries and death. The withdrawn land may also be used for other training and testing activities that are not known at this time. Such activities would be subject to additional National Environmental Policy Act (NEPA) analysis.

Currently, the boundary between YPG and BLM land lacks a contiguous physical landmark demarcating the two areas, which has led to unintentional public intrusions onto YPG. The requested withdrawal area extends to SR 95. This would establish the highway as a distinct physical landmark for the YPG boundary, thereby improving public safety.

In addition to the proposed action, the LEIS will analyze a range of alternatives, including a no-action alternative under which there would be no additional land withdrawal and YPG would not expand its capability. While the proposed action entails a withdrawal of land for an indefinite period, action alternatives could include the withdrawal and reservation of land for a shorter duration (e.g., 25 years).

The Army will analyze potential environmental impacts resulting from the withdrawal of land from BLM oversight and from expanding military capability within the withdrawn area. The Army will cover possible impacts to biological and cultural resources in a separate NEPA analysis before training and testing begin.

The withdrawal could impact recreational activities that occasionally take place on the BLM-managed land proposed for withdrawal. Recreational use of the area is currently allowed, but if Congress withdraws and reserves this land for YPG, public use would be subject to the terms of the relevant legislation and applicable Army regulations, procedures, and management plans. Thus, public use would likely be restricted in some manner.

The LEIS will also identify mitigation measures that would reduce or eliminate any adverse impacts resulting from the transfer of this land to the Army's administrative control. The environmental analysis will include coordination with area Native American Tribes, the U.S. Fish and Wildlife Service, and other federal, state, and local agencies. The Army is not aware of any federal or state permits or other approvals that would be required in conjunction with a legislative withdrawal or reservation. The Army is requesting the withdrawal of approximately 22,000 acres from all types of appropriation (such as mining claims) under federal public land laws. This administrative activity does not have the potential to cause effects to historic properties within the meaning of 36 CFR part 800.3(a)(1), and is not subject to further review under Section 106 of the National Historic Preservation Act.

The Army is the lead agency for the LEIS and BLM is a cooperating agency. As a cooperating agency, BLM will join the Army in the public comment process. Both agencies will thereby fulfill their requirements to inform the public about the proposed action. Federal, state, and local agencies, Native American Tribes, private organizations, and the public are invited to participate in the public comment process for the LEIS by participating in a public scoping meeting(s) and/or by submitting written comments. The Army invites potential alternatives, information, and analyses relevant to the proposed action. To be considered, written comments must be sent no later than December 8, 2022. Comments may be mailed to Mr. Daniel Steward, Environmental Sciences Division, U.S. Army Garrison—Yuma Proving Ground, 301 C St., Bldg. 307, Yuma, AZ 85365, or emailed to usarmy.ypg.imcom.mbx.nepa@army.mil.

In response to the COVID-19 pandemic and to Centers for Disease Control and Prevention recommendations for social distancing and avoiding large public gatherings, the Army will not hold in-person public scoping meetings. YPG will instead host two online/telephonic public scoping meetings 30 days after publication of this notice. Specific details regarding the public scoping meetings will be announced through local media and on the YPG LEIS website: https://ypg-environmental.com/highway-95-land-withdrawal-leis/. Public scoping materials will also be posted to the YPG LEIS website.

For those who do not have ready access to a computer or to the internet, hard copies of public scoping materials are available upon request. Any mailed requests for public scoping materials must be postmarked no later than September 29, 2022.

The public will also be invited to review and comment on the Draft LEIS when it is released. Public comments will be considered before proposed legislation is presented to Congress and before any decision is made to implement the proposed action. Actual and estimated milestone dates are as follows: BLM published a Notice of Application for Withdrawal in the Federal Register on April 4, 2022; public meetings were held on June 7 and 8, 2022; BLM filed a Notice of Proposed Withdrawal in the Federal Register on June 30, 2022. LEIS public scoping meetings are to be held 30 days after publication of this Notice of Intent in the Federal Register; a 90-day public comment period regarding the Draft LEIS is expected to start in July 2023; and the Final LEIS is expected to be available in February 2024.

James W. Satterwhite Jr.,
Army Federal Register Liaison Officer.

[FR Doc. 2022-19461 Filed 9-8-22; 8:45 am]

BILLING CODE 3711-02-P